DEPARTMENT OF JUSTICE

Office of Juvenile Justice and Delinquency Prevention

[OJP (OJJDP)—1369]

Extension of Deadline for Applications for Promising Programs for Substance Abuse Prevention Replication and Evaluation Initiative

AGENCY: Office of Justice Programs, Office of Juvenile Justice and Delinquency, Justice.

ACTION: Notice of extension of deadline for applications.

SUMMARY: The Office of Juvenile Justice and Delinquency Prevention (OJJDP) has extended the deadline for applications for the Promising Programs for Substance Abuse Prevention: Replication and Evaluation Initiative Solicitation (published in the Federal Register on Friday November 15, 2002, at 67 FR 69246).

DATES: The deadline for applications has been extended from December 30, 2002 to January 31, 2003.

FOR FURTHER INFORMATION CONTACT: Janet Chiancone, Program Manager, Research and Program Development Division, Office of Juvenile Justice and Delinquency Prevention, 202-353-9258 [This is not a toll-free number.] (E-mail: chiancoj@ojp.usdoj.gov.)

SUPPLEMENTARY INFORMATION: For more information about this program, and for information on how to obtain and submit an application, see Program Announcement for the Promising Programs for Substance Abuse Prevention: Replication and Evaluation Initiative, 67 FR 69246, November 15, 2002.

J. Robert Flores,
Administrator, Office of Juvenile Justice and Delinquency Prevention.

[FR Doc. 02-31689 Filed 12-16-02; 8:45 am]

BILLING CODE 4410-18-P